DEPARTMENT OF TRANSPORTATION

Surface Transportation Board

[Docket No. FD 35864]

Escanaba & Lake Superior Railway Company—Lease and Operation Exemption—Rail Line of Wisconsin Central Ltd. in Menominee County, Mich., and Marinette County, Wis.

Escanaba & Lake Superior Railway Company (E&LS), a Class III rail carrier, has filed a verified notice of exemption under 49 CFR 1150.41 to lease from Wisconsin Central Ltd., and to operate, pursuant to a non-exclusive lease agreement executed on September 30, 2014, approximately 2.8 miles of rail line that consists of the following segments: Track #129 at Menominee, in Menominee County, Mich., Track #270 at Marinette, Wis., and approximately 3,000 lineal feet of Track #115 at Marinette, in Marinette County, Wis. E&LS states that there are no mileposts on the subject line segments.

According to E&LS, the lease agreement between the parties will facilitate providing switching services to shippers on the line segments. E&LS states that the lease does not contain any provision or agreement that may limit future interchange of traffic with a third-party connecting carrier.

E&LS states that it expects to consummate the transaction on November 10, 2014. The earliest this transaction can be consummated is November 15, 2014, the effective date of this exemption (30 days after the verified notice of exemption was filed).

E&LS certifies that its projected annual revenues as a result of this transaction will not result in E&LS becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by November 7, 2014 (at least seven days prior to the date the exemption becomes effective).

An original and 10 copies of all pleadings, referring to Docket No. FD 35864, must be filed with the Surface Transportation Board, 395 E Street SW., Washington, DC 20423-0001. In addition, a copy of each pleading must be served on applicant's representative, Keith G. O'Brien, Baker & Miller PLLC, 2401 Pennsylvania Ave. NW., Suite 300, Washington, DC 20037.

Board decisions and notices are available on our Web site at “WWW.STB.DOT.GOV.”

Decided: October 28, 2014.
By the Board, Rachel D. Campbell, Director, Office of Proceedings.
Brendetta S. Jones,
Clearance Clerk.

[FR Doc. 2014-25934 Filed 10-30-14; 8:45 am]

BILLING CODE 4915-01-P